CORPORATION FOR NATIONAL AND COMMUNITY SERVICE

Information Collection; Submission for OMB Review, Comment Request

AGENCY: Corporation for National and Community Service.

ACTION: Notice.

SUMMARY: The Corporation for National and Community Service (the Corporation), has submitted a public information collection request (ICR) entitled Understanding the Value of Service in Participant's Experience for review and approval in accordance with the Paperwork Reduction Act of 1995, Public Law 104-13, (44 U.S.C. chapter 35). Copies of this ICR, with applicable supporting documentation, may be obtained by calling the Corporation for National and Community Service, Scott Richardson, at (202) 606-6903 or email to srichardson@cns.gov. Individuals who use a telecommunications device for the deaf (TTY-TDD) may call 1-800-833-3722 between 8:00 a.m. and 8:00 p.m. Eastern Time, Monday through Friday.

ADDRESSES: Comments may be submitted, identified by the title of the information collection activity, to the Office of Information and Regulatory Affairs, Attn: Ms. Sharon Mar, OMB Desk Officer for the Corporation for National and Community Service, by any of the following two methods within 30 days from the date of publication in the Federal Register:

(1) By fax to: (202) 395-6974, Attention: Ms. Sharon Mar, OMB Desk Officer for the Corporation for National and Community Service; and

(2) Electronically by email to: smar@omb.eop.gov.

SUPPLEMENTARY INFORMATION: The OMB is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology, e.g., permitting electronic submissions of responses.

Comments

A 60-day public comment Notice was published in the Federal Register on November 25, 2011. This comment period ended January 24, 2012. One public comment was received from this Notice, submitted by the Washington Commission for National & Community Service (“Commission”). The Commission recommended removing “active duty” from the survey question about veteran status, and CNCS removed “active duty” from the survey. The Commission questioned whether it was necessary to collect respondents' income and household size data. CNCS omitted these questions from the survey. The Commission recommended adding “transfer of the Siegel Education Award to a family member” as a possible motivation for Senior Corps volunteers to serve. CNCS added this to the survey. The Commission suggested clarifying the term “supervisor/team leader” in the survey. CNCS program offices provided accurate wording for supervisors and team leaders, and these were added to the survey.

Description: The Corporation is seeking approval of the Understanding the Value of Service in Participants' Experience survey, which is used by participants in and recent alumni of AmeriCorps and Senior Corps to describe their satisfaction with involvement in CNCS-supported service initiatives. CNCS wishes to understand participants' perspectives on the entry process, the service experience, and the impact of serving. The information will be used to better understand participants' satisfaction with CNCS programs and how various aspects of the service experience relate to participant satisfaction.

Type of Review: New.

Agency: Corporation for National and Community Service.

Title: Understanding the Value of Service in Participants' Experience.

OMB Number: TBD.

Agency Number: None.

Affected Public: Current participants and recent alumni of AmeriCorps and Senior Corps programs.

Total Respondents: 300.

Frequency: One-time.

Average Time per Response: 20 minutes.

Estimated Total Burden Hours: 100 hours.

Total Burden Cost (capital/startup): None.

Total Burden Cost (operating/maintenance): None.

Dated: May 23, 2012.
Marlene Zakai,
Deputy Chief of Staff for Management.

[FR Doc. 2012-13089 Filed 5-29-12; 8:45 am]

BILLING CODE 6050-$$-P